DEPARTMENT OF COMMERCE

National Oceanic and Atmospheric Administration

RIN: 0648-XQ30

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Snapper Grouper Advisory Panel in North Charleston, SC.

DATES: The meeting will take place August 4-6, 2009. See SUPPLEMENTARY INFORMATION for specific dates and times.

ADDRESSES: The meeting will be held at the Hilton Garden Inn, 5265 International Boulevard, North Charleston, SC; telephone: (843) 308-9330.

FOR FURTHER INFORMATION CONTACT: Kim Iverson, Public Information Officer, South Atlantic Fishery Management Council, 4055 Faber Place Drive, Suite 201, N. Charleston, SC, 29405; telephone: (843) 571-4366 or toll free (866) SAFMC-10; fax: (843) 769-4520; email: kim.iverson@safmc.net.

SUPPLEMENTARY INFORMATION: Members of the Snapper Grouper Advisory Panel will meet from 1 p.m. until 5 p.m. on August 4, 2009, from 8:30 a.m. until 5 p.m. on August 5, 2009, and from 8:30 a.m. until 3 p.m. on August 6, 2009.

The Advisory Panel will review actions and management alternatives in draft Amendment 17A to the Snapper Grouper Fishery Management Plan (FMP) for the South Atlantic Region regarding the management of red snapper, including measures to end overfishing, establishment of Overfishing Levels (OFLs), Annual Catch Limits (ACLs), Annual Catch Targets (ACTs) and Accountability Measures (AMs) and other measures. The AP will review actions and alternatives in draft Amendment 17B to the Snapper Grouper FMP establishing OFLs, ACLs, ACTs, AMs and other measures for other species in the Council's jurisdiction listed as undergoing overfishing.

The AP will review actions and management alternatives in draft Amendment 18 to the Snapper Grouper FMP addressing the extension of the snapper grouper management unit northward and other issues, and draft Amendment 20 to the Snapper Grouper FMP addressing the management of wreckfish, including the current Individual Transferable Quota (ITQ) program, and establishment of management parameters including Maximum Sustainable Yield (MSY), OFLs, Acceptable Biological Catch (ABC), ACLs, AMs and other measures. AP members will also review the draft Comprehensive ACL Amendment addressing management requirements, including ABCs, ACLs, ACTs and AMs for species under the Council's jurisdiction not currently listed as undergoing overfishing. The AP will provide recommendations to the Council regarding each of the draft amendments.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Note: The times and sequence specified in this agenda are subject to change.

Special Accommodations

These meetings are physically accessible to people with disabilities. Requests for auxiliary aids should be directed to the Council office (see ADDRESSES) 3 days prior to the meeting.

Dated: July 13, 2009.
Tracey L. Thompson,
Acting Director, Office of Sustainable Fisheries, National Marine Fisheries Service.

[FR Doc. E9-16908 Filed 7-15-09; 8:45 am]

BILLING CODE 3510-22-S